COMMITTEE FOR PURCHASE FROM PEOPLE WHO ARE BLIND OR SEVERELY DISABLED

Proposed Additions; Procurement List; Correction

In the document appearing on page 70549, FR Doc 00-30001, in the issue of November 24, 2000, in the first column the Committee published a proposed addition for Sorbents, Chemical and Oil. The NSN 4235-01-457-0676 was incorrect. The correct NSN is 4235-01-457-0678.

Louis R. Bartalot,
Deputy Director (Operations).

[FR Doc. 00-31322 Filed 12-7-00; 8:45 am]

BILLING CODE 6353-01-P